DEPARTMENT OF JUSTICE

Notice of Lodging of Stipulation of Settlement and Judgment

Notice is hereby given that on March 14, 2003, a proposed Stipulation of Settlement and Judgment (“Stipulation”) in United States of America and State of Louisiana v. Marine Shale Processors, Inc., et al., Civil Action No CV-90-1240, was lodged with the United States District Court for the Western District of Louisiana.

In this action, the United States and the State of Louisiana sought civil penalties and injunctive relief for violation of the Resource Conservation and Recovery Act, 42 U.S.C. 6901 et seq., the Clean Water Act, 33 U.S.C. 1251 et seq., the Clean Air Act, 42 U.S.C. 7401 et seq., and certain laws of the State of Louisiana, and recovery of response costs under the Comprehensive Environmental Response, Compensation and Liability Act of 1980, 42 U.S.C. 9601 et seq., with respect to the Marine Shale Processors, Inc. (“MSP”), and Recycling Park, Inc. (“RPI”), facilities located in or near Amelia, Louisiana. The Stipulation provides for payment of all funds on deposit in the registry of the Court to the Secretary of the Louisiana Department of Environmental Quality (“Secretary”), for deposit by the Secretary in an escrow account, pursuant to La. R.S. 30:2031 B, and expenditure solely for closure and remediation of contamination at the MSP Facility and/or the RPI Facility. The balance of the funds in the Court Registry totaled $5,876,008.11 as of December 5, 2002. The Stipulation also orders MSP to pay the following civil penalties: (1) $3 million for violations of the Resource Conservation and Recovery Act and the Louisiana Hazardous Waste Control Law, to be apportioned 50% to the United States and 50% to the State of Louisiana; (2) $1.2 million for violations of the Clean Air Act, to be apportioned 50% to the United States and 50% to the State of Louisiana; and (3) $1,676,008.11 for violations of the Clean Water Act, to be paid in its entirety to the United States. The Stipulation also contains restrictions on the future participation of John M. Kent, Sr. (“Kent, Sr.”), in the waste handling and recycling businesses, requires MSP, RPI and Kent, Sr., to provide access to the MSP and RPI Facilities for the purposes of investigation and cleanup, and provides the United States, the State of Louisiana and Kent, Sr., releases and covenants not to sue regarding specified matters.

The Department of Justice will receive for a period of thirty (30) days from the date of this publication comments relating to the Stipulation and Letter. Comments should be addressed to the Assistant Attorney General, Environment and Natural Resources Division, PO Box 7611, U.S. Department of Justice, Washington, DC 20044-7611, and should refer to United States of America and State of Louisiana v. Marine Shale Processors, Inc., et al., D.J. Ref. 90-11-2-204. Commenters may request an opportunity for a public meeting in the affected area, in accordance with section 7003(d) of RCRA, 42 U.S.C. 6973(d).

The Stipulation and Letter may be examined at the Office of the United States Attorney, Western District of Louisiana, 705 Jefferson Street, Lafayette, Louisiana 70501, and at U.S. EPA Region 6, 1445 Ross Avenue, Dallas, Texas 75201. During the public comment period, the Stipulation and Letter, may also be examined on the following Department of Justice Web site, http://www.usdoj.gov/enrd/open.html. A copy of the Stipulation and Letter may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury.

Thomas A. Mariani Jr.,
Assistant Section Chief, Environmental Enforcement Section, Environment and Natural Resources Division.

[FR Doc. 03-7292 Filed 3-26-03; 8:45 am]

BILLING CODE 4410-15-M